NATIONAL AERONAUTICS AND SPACE ADMINISTRATION

[Notice: (15-015)]

NASA Advisory Council; Technology, Innovation and Engineering Committee; Meeting

AGENCY: National Aeronautics and Space Administration.

ACTION: Notice of meeting.

SUMMARY: In accordance with the Federal Advisory Committee Act, Public Law 92-463, as amended, the National Aeronautics and Space Administration (NASA) announces a meeting of the Technology, Innovation and Engineering Committee of the NASA Advisory Council (NAC). This Committee reports to the NAC.

DATES: Tuesday, April 7, 2015, 8:00 a.m. to 5:00 p.m., Local Time.

ADDRESSES: NASA Headquarters, Room MIC 6A, 300 E Street SW., Washington, DC 20546.

FOR FURTHER INFORMATION CONTACT: Mr. Mike Green, Space Technology Mission Directorate, NASA Headquarters, Washington, DC 20546, (202) 358-4710, or g.m.green@nasa.gov.

SUPPLEMENTARY INFORMATION: The meeting will be open to the public up to the capacity of the room. This meeting is also available telephonically and online via WebEx. You must use a touch tone phone to participate in this meeting. Any interested person may call the USA toll free conference number 844-467-6272, passcode 102421, to participate in this meeting by telephone. The WebEx link is https://nasa.webex.com/, the meeting number is 998 767 711, and the password is “Technology15%”.

The agenda for the meeting includes the following topics:

—Space Technology Mission Directorate Update

—Update on NASA's Future Workforce Diversity Efforts

—Briefing and Update on the NASA Small Business Innovation Research and Small Business Technology Transfer Programs

—Office of the Chief Technologist Update

—Office of the Chief Engineer Update

—Briefing and Update on NASA's Centennial Challenges Program

Attendees will be required to sign a register and comply with NASA security requirements, including the presentation of a valid picture ID before receiving access to NASA Headquarters. Due to the Real ID Act, Public Law 109-13, any attendees with drivers licenses issued from non-compliant states/territories must present a second form of ID. [Federal employee badge; passport; active military identification card; enhanced driver's license; U.S. Coast Guard Merchant Mariner card; Native American tribal document; school identification accompanied by an item from LIST C (documents that establish employment authorization) from the “List of the Acceptable Documents” on Form I-9]. Non-compliant states/territories are: American Samoa, Arizona, Idaho, Louisiana, Maine, Minnesota, New Hampshire, and New York. Foreign nationals attending this meeting will be required to provide a copy of their passport and visa in addition to providing the following information no less than 10 days prior to the meeting: full name; home address; gender; citizenship; date/city/country of birth; title, position or duties; visa information (number, type, expiration date); passport information (number, country, expiration date); and employer/affiliation information (name of institution, address, country, telephone) of the position of attendee; and home address to Ms. Anyah Dembling via email at anyah.b.dembling@nasa.gov. To expedite admittance, U.S. citizens and Permanent Residents (green card holders) can submit identifying information 3 working days prior to the meeting to Ms. Anyah Dembling via email at anyah.b.dembling@nasa.gov. It is imperative that the meeting be held on this date to accommodate the scheduling priorities of the key participants.

Harmony R. Myers,
Acting Advisory Committee Management Officer, National Aeronautics and Space Administration.

[FR Doc. 2015-06062 Filed 3-16-15; 8:45 am]

BILLING CODE 7510-13-P